DEPARTMENT OF COMMERCE

International Trade Administration

[A-428-830]

Stainless Steel Bar from Germany: Rescission of Antidumping Duty Administrative Review

E349-E351

AGENCY: Import Administration, International Trade Administration, Department of Commerce.

EFFECTIVE DATE: September 4, 2007.

FOR FURTHER INFORMATION CONTACT: Brandon Farlander or Damian Felton, AD/CVD Operations, Office 1, Import Administration, International Trade Administration, U.S. Department of Commerce, 14th Street and Constitution Avenue, NW, Washington, DC 20230; telephone: (202) 482-0182 and (202) 482-0133, respectively.

SUPPLEMENTARY INFORMATION:

Background

On March 7, 2002, the Department of Commerce (“the Department”) published an antidumping duty order on stainless steel bar from Germany. See Notice of Amended Final Determination of Sales at Less Than Fair Value and Antidumping Duty Order: Stainless Steel Bar from Germany, 67 FR 10382 (March 7, 2002). On October 10, 2003, the Department published an amended antidumping duty order on stainless steel bar from Germany. See Notice of Amended Antidumping Duty Orders: Stainless Steel Bar from France, Germany, Italy, Korea, and the United Kingdom, 68 FR 58660 (October 10, 2003).

On March 2, 2007, the Department published its Antidumping or Countervailing Duty Order, Finding, or Suspended Investigation: Opportunity to Request Administrative Review, 72 FR 9505 (March 2, 2007). In response to timely requests made by petitioners,¹ Schmiedewerke Groditz GmbH (“SWG”), and BGH Edelstahl Freital GmbH, BGH Edelstahl Lippendorf GmbH, BGH Edelstahl Lugau GmbH and BGH Edelstahl Siegen GmbH (collectively, “BGH”), the Department initiated an administrative review of the antidumping duty order on stainless steel bar from Germany covering the period March 1, 2006, through February 28, 2007. See Initiation of Antidumping and Countervailing Duty Administrative Reviews, 72 FR 20986 (April 27, 2007).

¹ Carpenter Technology Corporation; Crucible Specialty Metals Division, Crucible Materials Corporation; Electralloy Corporation, a Division of G.O. Carlson, Inc.; North American Stainless; Outokumpu Stainless, Inc.; Universal Stainless and Alloy Products; and Valbruna Slater Steels Corporation (collectively “petitioners”).

On July 11, 2007, SWG withdrew its request for an administrative review. BGH requested that the Department extend the deadline for parties to withdraw their request for administrative review on July 26, 2007, and August 2 and 9, 2007. The Department granted these extension requests. On August 16, 2007, BGH and petitioners withdrew their requests for review. As a result of the timely withdrawal of the requests for review by SWG, BGH, and petitioners, we are rescinding this administrative review.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Rescission of Review

The Department's regulations at 19 CFR 351.213(d)(1) provide that the Department will rescind an administrative review, in whole or in part, if the party that requested a review withdraws the request within 90 days of the date of publication of the notice of initiation of the requested review or withdraws its request at a later date if the Department determines that it is reasonable to extend the time limit for withdrawing the request. SWG, BGH, and petitioners withdrew their requests for administrative review. No other party requested a review with respect to SWG, BGH, or any other company. Therefore, the Department is rescinding this administrative review. The Department intends to issue appropriate assessment instructions to U.S. Customs and Border Protection (“CBP”) 15 days after the date of the publication of this notice. The Department will direct CBP to assess antidumping duties for SWG and BGH at the cash deposit rates in effect on the date of entry for entries during the period March 1, 2006, through February 28, 2007.

Notification to Importers

This notice serves as a final reminder to importers of their responsibility under 19 CFR 351.402(f)(2) to file a certificate regarding the reimbursement of antidumping duties prior to liquidation of the relevant entries during this review period. Failure to comply with this requirement could result in the Department's assumption that reimbursement of antidumping duties occurred and the subsequent assessment of double antidumping duties.

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

This notice is issued and published in accordance with sections 771(i) and 751(a)(1) of the Tariff Act of 1930, as amended, and 19 CFR 351.213(d)(4).

Dated: August 28, 2007.
Gary Taverman,
Acting Deputy Assistant Secretary for Import Administration.

[FR Doc. E7-17440 Filed 8-31-07; 8:45 am]

BILLING CODE 3510-DS-S